FEDERAL FINANCIAL INSTITUTIONS EXAMINATION COUNCIL

[Docket No. AS25-06]

Appraisal Subcommittee; Notice of Meeting

AGENCY: Appraisal Subcommittee of the Federal Financial Institutions Examination Council.

ACTION: Notice of meeting.

Description: In accordance with section 1104(b) of Title XI of the Financial Institutions Reform, Recovery, and Enforcement Act of 1989, codified at 12 U.S.C. 3333(b), notice is hereby given that the Appraisal Subcommittee (ASC) will meet in open session for its regular meeting:

Location: This will be a virtual meeting via Zoom. Please visit the agency's homepage (www.asc.gov) and access the registration link provided in the News and Events section. You MUST register in advance to attend this meeting.

Date: June 18, 2025.

Time: 10:00 a.m. ET.

Status: Open.

Reports

Acting Chair

Acting Executive Director

Delegated State Compliance Reviews

Notation Votes

Action and Discussion Items

Approval of Minutes

November 20, 2024 Quarterly Meeting Minutes

Fiscal Year 2026 Notice of Funding Availability for State Grants

Fiscal Year 2025 Notice of Funding Availability for the Appraisal Foundation

Compliance Reviews

• New Hampshire Appraiser Program Compliance Review

• New Hampshire Appraisal Management Company Program Compliance Review

• Puerto Rico Appraiser Program Compliance Review

How To Attend and Observe an ASC Meeting

The meeting will be open to the public via live webcast only. Visit the agency's homepage (www.asc.gov) and access the registration link provided in the News and Events section. The meeting space is intended to accommodate public attendees. However, if the space will not accommodate all requests, the ASC may refuse attendance on that reasonable basis. The use of any video or audio tape recording device, photographing device, or any other electronic or mechanical device designed for similar purposes is prohibited at ASC Meetings.

Loretta Schuster,
Management & Program Analyst.

[FR Doc. 2025-10510 Filed 6-9-25; 8:45 am]

BILLING CODE 6700-01-P